DEPARTMENT OF TRANSPORTATION

Notice and Request for Comments

AGENCY: Federal Railroad Administration, DOT.

ACTION: Notice and request for comments.

SUMMARY: In compliance with the Paperwork Reduction Act of 1995 (44 U.S.C. 3501 et seq.), this notice announces that the Information Collection Requirement (ICR) abstracted below has been forwarded to the Office of Management and Budget (OMB) for review and comment. The ICR describes the nature of the information collection and its expected burden. The Federal Register notice with a 60-day comment period soliciting comments on the following collection of information was published on January 16, 2003 (68 FR 2393).

DATES: Comments must be submitted on or before April 17, 2003.

FOR FURTHER INFORMATION CONTACT: Mr. Robert Brogan, Office of Safety, Planning and Evaluation Division, RRS-21, Federal Railroad Administration, 1120 Vermont Ave., NW., Mail Stop 25, Washington, DC 20590 (telephone: (202) 493-6292), or Ms. Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Pub. L. 104-13, section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On January 16, 2003, FRA published a 60-day notice in the Federal Register soliciting comment on ICRs that the agency was seeking OMB approval. 68 FR 2393.

FRA received three comments after issuing this notice. The first comment or letter that FRA received was from the Brotherhood of Railroad Signalmen (BRS). The BRS supports the proposed study and remarked: “The BRS contends that the Work Schedules and Sleep Patterns of Railroad Signalmen, OMB No. 2130-NEW, study will help the FRA and the rail industry to develop an understanding of the work schedule-related fatigue issues that affect signalmen. Once this study is complete, the BRS will continue to work with the FRA and the rail industry in order to promote work schedules that will reduce the fatigue level of railroad signalmen. The BRS also hopes that after this study is completed, the FRA diligently moves forward in their effort to examine the effects of fatigue on other non-operating crafts, such as, but not limited to: track maintenance personnel, locomotive and car repair personnel; and telecommunications personnel.”

The second comment or letter that FRA received came from the American Train Dispatchers Department (ATDD). The ATDD also supports the proposed study and observed: “The ATDD applauds the efforts of the Federal Railroad Administration and supports them in proposing a study, which will focus on the cause and effect of fatigue issues that influence the performance of duties and responsibilities of signalmen. Their analysis of data can only contribute to the understanding of this most important issue, which will benefit not only signalmen, but many other non-operating crafts as well.”

The third and final comment or letter that FRA received came from the Brotherhood of Maintenance of Way Employees (BMWE). The BMWE too supports the proposed study and stated the following: “Fatigue continues to be a factor for the non-operating crafts within the rail industry, especially in view of working conditions, expanded territories, frequent changes in workweek and starting times, erratic call schedules, etc. Members of the BRS, like those of the BMWE, are subject to a number of work schedule-related factors which can lead to fatigue induced accident and incidents. As such, we support the study contemplated in the above-referenced notice to assist FRA and the rail industry in understanding the impact of work schedules, territory size, call schedules, working conditions, and other factors which may contribute to BRS employee fatigue. Based on the anticipated success of the BRS study, BMWE believes FRA should systematically and individually examine the cause and effect of fatigue on other non-operating crafts, inclusive of BMWE.” None of these three comments addressed the issue of burden hour estimates or burden cost estimates. After carefully reviewing these comments, DOT announces that these information collection activities have been reevaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden, and are being submitted for clearance by OMB as required by the PRA.

Title: Work Schedules and Sleep Patterns of Railroad Signalmen.

OMB Control Number: 2130-NEW.

Type of Request: New collection.

Affected Public: Rail workers.

Abstract: In a continuing effort to improve rail safety and to reduce the number of injuries and fatalities to rail workers, FRA and the rail industry have recently focused on the issue of fatigue among train and engine crew personnel. Because railroading is an around-the-clock, seven-days-a-week operation and because a wide array of workers are needed to both operate and to maintain the nation's railroads, other crafts—besides train and engine crews—can also be subject to fatigue. The non-operating crafts, including locomotive and car repair, track maintenance, signal system maintenance and telecommunications, fall into this second category. FRA is proposing a study which will focus on signalmen, one of the non-operating crafts. FRA seeks to develop an understanding of the work schedule-related fatigue issues that affect signalmen. The proposed study has two primary purposes: (1) It aims to document and characterize the work/rest schedules and sleep patterns of the signalmen; and (2) It intends to examine the relationship between these schedules and level of alertness/fatigue for the individuals who work these schedules. Subjective ratings from participants of their alertness/sleepiness on both work and non-work days will be an integral part of this study. The data will be collected through the use of a daily diary or log, as well as a brief background questionnaire for each participant. Analysis of the diary data will allow FRA to assess whether or not there are any work-related fatigue issues for signalmen.

Annual Estimated Burden Hours: 850 hours.

Addressee: Send comments regarding this information collection to the Office of Information and Regulatory Affairs, Office of Management and Budget, 725 Seventeenth Street, NW., Washington, DC, 20503, Attention: FRA Desk Officer.

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC, on March 13, 2003.
Kathy A. Weiner,
Director, Office of Information Technology and Support Systems, Federal Railroad Administration.

[FR Doc. 03-6424 Filed 3-17-03; 8:45 am]

BILLING CODE 4910-06-P